DEPARTMENT OF DEFENSE

Department of the Army

Training Land Expansion at Fort Benning, Georgia and Alabama, Withdrawal of Notice of Intent To Prepare an Environmental Impact Statement

AGENCY: Department of the Army, DoD.

ACTION: Notice of Intent; Withdrawal.

SUMMARY: The Department of the Army is announcing withdrawal of its Notice of Intent (NOI) to prepare an Environmental Impact Statement (EIS) for Fort Benning Training Land Expansion as well as the subsequent Draft EIS. The original NOI was published in the Federal Register on June 4, 2010 (75 FR 31770). The Notice of Availability for the Draft EIS was published in the Federal Register on May 13, 2011 (76 FR 28005). The Army has determined that the proposed land acquisition will no longer be pursued due to a reduction in requirements. This was the result of a combination of force structure realignment decisions affecting Fort Benning and actions taken to relocate maneuver training for Fort Benning's Army Reconnaissance Course (ARC). This ends the National Environmental Policy Act (NEPA) process for this action.

FOR FURTHER INFORMATION CONTACT: Ms. Monica Manganaro, Fort Benning Public Affairs Office: at (706) 545-3438, Monday through Friday, 8:00 a.m. to 5:00 p.m. E.S.T.; by email to monica.l.manganaro.civ@mail.mil; or postal service mail to PAO, Ste 141-W McGinnis-Wickam Hall, 1 Karker Street, Fort Benning, GA 31905.

SUPPLEMENTARY INFORMATION: Fort Benning, home to the Maneuver Center of Excellence (MCoE), is the Army's premier basic training installation, training Infantry, Armor, and Cavalry Soldiers in basic and advanced combat skills, as well as Airborne Soldiers and Rangers.

Training Land Expansion at Fort Benning met two requirements. The first was to secure additional maneuver area consistent with doctrinal training requirements. The second purpose was a time-sensitive 2009 Biological Opinion (BO) that required movement of ARC heavy maneuver training to an area outside the current Fort Benning without Red-Cockaded Woodpeckers (a listed species under the Endangered Species Act).

The Army published a Draft EIS on May 13, 2011 to study the potential environmental impacts of acquisition and use of up to approximately 82,800 acres of additional land. The study area for land acquisition consisted of areas neighboring Fort Benning capable of supporting military training. The Army held public meetings and received numerous comments on the Draft EIS.

In July, 2015, Fort Benning completed an Environmental Assessment (EA) for Enhanced Training, which considered converting the Armor Brigade Combat Team (BCT) to an Infantry BCT; and relocating the ARC heavy mechanized training to the Good Hope Maneuver Training Area (GHMTA), an area on the current Fort Benning without Red-Cockaded Woodpeckers. These changes would allow the Infantry BCT and the ARC to train without the need to acquire additional training land. In July 2015, the Army announced the decision to convert the Armor BCT to an Infantry Battalion Task Force (a smaller unit than a BCT). In October 2015, the Army signed a Finding of No Significant Impact based on the July EA, selecting the conversion and ARC relocation alternative. In December 2015, the U.S. Fish and Wildlife Service issued a BO finding that the relocation of the ARC heavy mechanized training to the GHMTA was the “equivalent” of moving the training off Fort Benning, as called for by the 2009 BO. Since an Infantry BCT (and the smaller task force) can train on the current Fort Benning, and there is no longer a need to find land off the installation to comply with the BO, the requirement for additional training land has been greatly reduced. Therefore Army is withdrawing the NOI and the Draft EIS for the proposed training land expansion. This ends the NEPA process for this action. The Army's most recent Fiscal Year 2017 budget submission and associated future years defense program for the next five fiscal years (thru Fiscal Year 2021) does not include any programmed funds to acquire land at Fort Benning. If land acquisition at Fort Benning were ever to be pursued in the future, a new NOI would be published.

Brenda S. Bowen,
Army Federal Register Liaisons Officer.

[FR Doc. 2016-13389 Filed 6-6-16; 8:45 am]

BILLING CODE 5001-03-P